DEPARTMENT OF ENERGY

Federal Energy Regulatory Commission

[Project No. 2715-026]

Kaukauna Utilities; Notice of Reasonable Period of Time for Water Quality Certification Application

On April 12, 2024, the Wisconsin Department of Natural Resources (DNR) submitted to the Federal Energy Regulatory Commission (Commission) notice that it received a complete request for a Clean Water Act section 401(a)(1) water quality certification from Kaukauna Utilities, in conjunction with the above captioned project, on March 12, 2024. Pursuant to section 4.34(b)(5) of the Commission's regulations,¹ we hereby notify the Wisconsin DNR of the following:

¹ 18 CFR 4.34(b)(5).

Date of Receipt of the Certification Request: March 12, 2024.

Reasonable Period of Time to Act on the Certification Request: One year, March 12, 2025.

If the Wisconsin DNR fails or refuses to act on the water quality certification request on or before the above date, then the certifying authority is deemed waived pursuant to section 401(a)(1) of the Clean Water Act, 33 U.S.C. 1341(a)(1).

Dated: April 16, 2024.
Debbie-Anne A. Reese,
Acting Secretary.

[FR Doc. 2024-08534 Filed 4-19-24; 8:45 am]

BILLING CODE 6717-01-P